NUCLEAR REGULATORY COMMISSION

10 CFR Part 171

[NRC-2008-0620]

RIN 3150-AI52

Revision of Fee Schedules; Fee Recovery for FY 2009

Correction

In rule document E9-13425 beginning on page 27642 in the issue of Wednesday, June 10, 2009, make the following correction:

§171.16 [Corrected]

On page 27666, in §171.16(d), the table titled Schedule of Materials Annual Fees and Fees for Government Agencies Licensed by NRC is corrected in part to read as follows:

Schedule of Materials Annual Fees and Fees for Government Agencies Licensed by NRC
[See footnotes at end of table]
Category of materials licenses | Annual fees¹ ² ³
* * * * * * *
(2) All other special nuclear materials licenses not included in Category 1.A.(1) which are licensed for fuel cycle activities
* * * * * * *

[FR Doc. Z9-13425 Filed 7-17-09; 8:45 am]

BILLING CODE 1505-01-D